DEPARTMENT OF HEALTH AND HUMAN SERVICES

Health Resources and Services Administration

Meeting of the Council on Graduate Medical Education

AGENCY: Health Resources and Services Administration (HRSA), Department of Health and Human Services (HHS).

ACTION: Notice.

SUMMARY: In accordance with the Federal Advisory Committee Act, this notice announces that the Council on Graduate Medical Education (COGME or Council) will hold public meetings for the 2022 calendar year (CY). Information about COGME, agendas, and materials for these meetings can be found on the COGME website at https://www.hrsa.gov/advisory-committees/graduate-medical-edu/index.html.

DATES: COGME meetings will be held on:

• March 24, 2022, 10:00 a.m.-5:00 p.m. Eastern Time (ET) and March 25, 2022, 10:00 a.m.-2:00 p.m. ET; and

• September 12, 2022, 10:00 a.m.-5:00 p.m. ET.

ADDRESSES: Meetings will be held virtually and by teleconference. No in-person meetings will be conducted in 2022. For updates on how the meetings will be held, visit the COGME website 30 business days before the date of the meeting, where instructions for joining meetings will be posted. For meeting information updates, go to the COGME website meeting page at https://www.hrsa.gov/advisory-committees/graduate-medical-edu/meetings/index.html.

FOR FURTHER INFORMATION CONTACT: Shane Rogers, Designated Federal Official, Division of Medicine and Dentistry, Bureau of Health Workforce, HRSA, 5600 Fishers Lane, Room 15N142, Rockville, Maryland 20857; 301-443-5260; or SRogers@hrsa.gov.

SUPPLEMENTARY INFORMATION: The COGME provides advice and recommendations to the Secretary of HHS on policy, program development, and other matters of significance concerning the activities listed in section 762(a) of Title VII of the Public Health Service (PHS) Act. Issues addressed by COGME include the supply and distribution of the physician workforce in the United States, including any projected shortages or excesses; foreign medical school graduates; the nature and financing of undergraduate and graduate medical education; appropriation levels for certain programs under Title VII of the PHS Act; and deficiencies in databases of the supply and distribution of the physician workforce and postgraduate programs for training physicians. COGME submits reports to the Secretary of HHS; the Senate Committee on Health, Education, Labor and Pensions; and the House of Representatives Committee on Energy and Commerce. Additionally, COGME encourages entities providing graduate medical education to conduct activities to voluntarily achieve the recommendations of the Council.

Since priorities dictate meeting times, be advised that start times, end times, and agenda items are subject to change. For CY 2022 meetings, agenda items may include, but are not limited to, discussions on advancing health equity, addressing disparities in rural areas, enhancing the delivery of behavioral health and mental health care, and expanding the role of telehealth. Refer to the COGME website listed above for all current and updated information concerning the CY 2022 COGME meetings, including draft agendas and meeting materials that will be posted 30 calendar days before the meeting.

Members of the public will have the opportunity to provide comments. Public participants may submit written statements in advance of the scheduled meeting(s). Oral comments will be honored in the order they are requested and may be limited as time allows. Requests to submit a written statement or make oral comments to the COGME should be sent to Shane Rogers using the contact information above at least 5 business days before the meeting date(s).

Individuals who need special assistance or another reasonable accommodation should notify Shane Rogers using the contact information listed above at least 10 business days before the meeting(s) they wish to attend.

Maria G. Button,
Director, Executive Secretariat.

[FR Doc. 2021-27263 Filed 12-15-21; 8:45 am]

BILLING CODE 4165-15-P